ENVIRONMENTAL PROTECTION AGENCY

40 CFR Part 63

[FRL-7646-7]

RIN 2090-AA33

Site-Specific Rulemaking for Packaging Corporation of America's Pulp and Paper Mill Located in Tomahawk, WI, Pursuant to the Joint State/EPA Agreement To Pursue Regulatory Innovation

AGENCY: Environmental Protection Agency.

ACTION: Proposed rule.

SUMMARY: The U.S. Environmental Protection Agency (EPA or the Agency) is proposing to adopt limited revisions to the National Emissions Standards for Hazardous Air Pollutants from the Pulp and Paper Industry (Pulp and Paper Industry NESHAP). Collectively, these revisions comprise a site-specific rule to control Hazardous Air Pollutants (HAPs) applicable only to the semi-chemical pulp and paper mill currently owned and operated by Packaging Corporation of America (PCA) in Tomahawk, Wisconsin (the Tomahawk Mill). EPA is proposing these revisions pursuant to the Clean Air Act (CAA) and the Joint State/EPA Agreement to Pursue Regulatory Innovation (Innovations Agreement).

The Pulp and Paper Industry NESHAP currently requires semi-chemical pulp and paper mills to control the HAP emissions from the air stack for the collection of equipment comprising the Low Volume High Concentration (LVHC) system. Neither the Pulp and Paper Industry NESHAP, nor any other federal or state regulation, requires such mills to control HAPs that may be contained in the liquid condensates from the LVHC system. The proposed revisions allow PCA's Tomahawk Mill to control the HAPs generated in the LVHC system by condensing them into a liquid and treating them via anaerobic biodegradation in the facility's wastewater treatment system. In other words, the proposed revisions allow PCA's Tomahawk Mill to control the HAPs generated in the LVHC system from an emission point and with a technology not addressed by the Pulp and Paper Industry NESHAP.

Under the proposed revisions, PCA would maintain compliance with the CAA and achieve a reduction in HAPs emitted to the environment significantly superior to that which would have been achieved through compliance with the control methodology currently prescribed by the Pulp and Paper Industry NESHAP. Additionally, the proposed revisions are consistent with the Innovations Agreement by allowing PCA's Tomahawk Mill to achieve superior environmental performance through regulatory flexibility.

DATES: Comments on this rulemaking must be received on or before May 13, 2004.

Public Hearing: Commenters may request a public hearing no later than April 27, 2004. Commenters requesting a public hearing should specify the basis for their request. If EPA determines that there is sufficient reason to hold a public hearing, it will be held on May 17, 2004, at 10 a.m. Requests to present oral testimony must be made by May 3, 2004. Persons interested in requesting a hearing, attending a hearing, or presenting oral testimony at a hearing should call Ms. Eileen L. Furey or Mr. Eaton R. Weiler at (312) 886-7950 or (312) 886-6041, respectively.

ADDRESSES: To make comments by mail, send two (2) copies of your comments to the Air and Radiation Docket and Information Center, Environmental Protection Agency, Mailcode: 6102T, 1200 Pennsylvania Ave., NW., Washington, DC, 20460, Attention Docket ID OAR-2003-0205. Comments also may be submitted electronically, or through hand delivery/courier. Follow the detailed instructions as provided in the SUPPLEMENTARY INFORMATION section.

If a public hearing is held, it will take place at the Valdas V. Adamkus Environmental Resource Center meeting rooms on the 12th floor of the Metcalf Federal Building, 77 West Jackson Blvd, Chicago, Illinois.

FOR FURTHER INFORMATION CONTACT: Ms. Eileen L. Furey or Mr. Eaton R. Weiler at U.S. EPA, Region 5, 77 West Jackson Boulevard, Chicago, Illinois 60604. Ms. Furey or Mr. Weiler can be reached at (312) 886-7950 or (312) 886-6041, respectively (or by e-mail at: furey.eileen@epa.gov or weiler.eaton@epa.gov).

SUPPLEMENTARY INFORMATION:

Regulated Entities

This site-specific revision to the Pulp and Paper Industry NESHAP, which governs the emission of HAPs from the pulp and paper industry, applies only to a single source, PCA's Tomahawk, Wisconsin pulp and paper mill.

Direct Final Rule

In a document with the same title that is located in the “Rule and Regulations” section of today's Federal Register, EPA is taking direct final action to approve the revisions, without prior proposal, because we consider the revisions to be noncontroversial and anticipate no significant adverse comments. Additionally, EPA is aware that most persons with an interest in this proposed rule have already been afforded at least two opportunities to comment on its merits. In April 2003, and again in September 2003, PCA sponsored public meetings regarding the project that is described at length in today's rule. EPA believes that PCA made every reasonable effort to invite all potential stakeholders to those public meetings. EPA has explained its reasons for the revisions in the preamble to the direct final rule.

If we receive no adverse comment, we will not take further action on this proposed rule. If we receive adverse comment, we will withdraw the direct final rule and it will not take effect. We will address all public comments in a subsequent final rule based on this proposed rule. We will not institute a second comment period on this action. Any parties interested in commenting must do so at this time.

Docket

EPA has established an official public docket for this action under Docket ID No. OAR-2003-0205. The official public docket consists of the documents specifically referenced in this action, any public comments received, and other information related to this action. Although a part of the official docket, the public docket does not include Confidential Business Information (CBI) or other information the disclosure of which is restricted by statute. The official public docket is the collection of materials that is available for public viewing at the Air and Radiation Docket and Information Center in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742.

Certain types of information will not be placed in the EPA Dockets. Information claimed as CBI and other information statutorily restricted from disclosure, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified above. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information statutorily restricted from disclosure. When EPA identifies a comment containing copyrighted material, EPA will provide a reference to that material in the version of the comment that is placed in EPA's electronic public docket. The entire printed comment, including the copyrighted material, will be available in the public docket. Public comments submitted on computer disks that are mailed or delivered to the Docket will be transferred to EPA's electronic public docket. Public comments that are mailed or delivered to the Docket will be scanned and placed in EPA's electronic public docket. Where practical, physical objects will be photographed, and the photograph will be placed in EPA's electronic public docket along with a brief description written by the docket staff.

Electronic Access

You may access this Federal Register document electronically through the EPA Internet under the Federal Register listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Submission of Comments

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments.

Electronically

If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

By EPA's Electronic Public Docket

Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OAR-2003-0205. The system is an “anonymous access” system, which means EPA will not know your identity, e-mail address, or other contact information unless you provide it in the body of your comment.

By E-mail

Comments may be sent by electronic mail (e-mail) to a-and-r-Docket@epa.gov, Attention Docket ID No. OAR-2003-0205. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

By Disk or CD ROM

You may submit comments on a disk or CD ROM that you mail to the mailing address identified in the next paragraph. These electronic submissions will be accepted in WordPerfect or ASCII file format. Avoid the use of special characters and any form of encryption.

By Mail

Send two (2) copies of your comments to the Air and Radiation Docket and Information Center, Environmental Protection Agency, Mailcode: 6102T, 1200 Pennsylvania Ave., NW., Washington, DC, 20460, Attention Docket ID No. OAR-2003-0205.

By Hand Delivery or Courier

Deliver your comments to: Environmental Protection Agency, EPA Docket Center, 1301 Constitution Avenue, NW., Washington, DC 20004, Attention Docket ID No. OAR-2003-0205. Such deliveries are only accepted during the Docket's normal hours of operation as identified in above.

By Facsimile

Fax your comments to: (202) 566-1741, Attention Docket ID No. OAR-2003-0205.

Dated: April 7, 2004.
Michael O. Leavitt,
Administrator.

[FR Doc. 04-8312 Filed 4-12-04; 8:45 am]

BILLING CODE 6560-50-P